DEPARTMENT OF TRANSPORTATION

Office of the Secretary

Aviation Proceedings, Agreements Filed the Week Ending December 10, 2004

The following Agreements were filed with the Department of Transportation under the provisions of 49 U.S.C. 412 and 414. Answers may be filed within 21 days after the filing of the application.

Docket Number: OST-2004-19872.

Date Filed: December 8, 2004.

Parties: Members of the International Air Transport Association.

Subject: PTC23 EUR-SEA 0193 dated 10 December 2004, TC23/TC123 Europe-South East Asia Expedited Resolutions 002ae, 015v r1-r5. Intended effective date: 1 February 2005.

Docket Number: OST-2004-19888.

Date Filed: December 10, 2004.

Parties: Members of the International Air Transport Association.

Subject:

PTC3 0789 dated 7 December 2004

TC3 Areawide Expedited Resolution 015v r1-r6

PTC3 0790 dated 7 December 2004

TC3 Within South Asian Subcontinent Expedited Resolution 002L r7-r13

PTC3 0791 dated 7 December 2004

TC3 Within South East Asia except between Malaysia and Guam Expedited Resolutions 002k, 070uu r14-r15

PTC3 0792 dated 7 December 2004

TC3 South East Asia-South Asian Subcontinent Expedited Resolution 002ww r16-r22

PTC3 0793 dated 7 December 2004

TC3 South Asian Subcontinent-South West Pacific Expedited Resolution 002pp r23-r28

PTC3 0794 dated 7 December 2004

TC3 Japan-Korea Expedited Resolution 002u r29-r31

PTC3-0795 dated 7 December 2004

TC3 Japan, Korea-South Asian Subcontinent Expedited Resolution 002g r32-r40

PTC3 0796 dated 7 December 2004

TC3 Japan, Korea-South East Asia except between Korea (Rep. of) and Guam, Northern Mariana Islands Expedited Resolution 002cc r41-r44

PTC3 0797 dated 7 December 2004

TC3 Japan, Korea-South West Pacific except between Korea (Rep. of) and American Samoa Expedited Resolution 002q r45-r51

Intended effective date: 15 January 2005.
Renee V. Wright,
Supervisory Dockets Officer, Alternate Federal Register Liaison.

[FR Doc. 04-28406 Filed 12-27-04; 8:45 am]

BILLING CODE 4910-62-P